DEPARTMENT OF AGRICULTURE

Forest Service

Snohomish County Resource Advisory Committee

AGENCY: Forest Service, USDA.

ACTION: Notice of meetings.

SUMMARY: The Snohomish County Resource Advisory Committee (RAC) will be holding a field trip to visit the sites of various proposed 2002 and 2003 projects on Thursday, July 18, 2002. The RAC is tentatively planning to meet at 8:30 a.m. at the Granite Falls High School.

All Snohomish County Resource Advisory Committee meetings are open to the public. Interested citizens are encouraged to attend, and must provide their own transportation and lunch.

The Snohomish County Resource Advisory Committee advises Snohomish County on projects, reviews project proposals, and makes recommendations to the Forest Supervisor for projects to be funded by Title II dollars. The Snohomish County Resource Advisory Committee was established to carry out the requirements of the Secure Rural Schools and Community Self-Determination Act of 2000.

FOR FURTHER INFORMATION CONTACT: Direct questions regarding this field trip to Barbara Busse, Designated Federal Official, USDA Forest Service, Mt. Baker-Snoqualmie National Forest, 74920 NE. Stevens Pass Hwy, PO Box 305, Skykomish, WA 98288 (phone: 360-677-2414) or Terry Skorheim, District Ranger, USDA Forest Service, Mt. Baker-Snoqualmie National Forest, 1405 Emens St., Darrington, WA 98241 (phone: 360-436-1155).

Dated: June 11, 2002.
Barbara Busse,
Designated Federal Official.

[FR Doc. 02-15546 Filed 6-19-02; 8:45 am]

BILLING CODE 3410-11-M